DEPARTMENT OF TRANSPORTATION

Federal Motor Carrier Safety Administration

[Docket No. FMCSA-2010-0027]

Hours of Service of Drivers: WestRock Application for Renewal of Exemption

AGENCY: Federal Motor Carrier Safety Administration (FMCSA), Department of Transportation (DOT).

ACTION: Notice of final disposition; renewal of exemption.

SUMMARY: FMCSA announces its final decision to renew the exemption granted to WestRock from the hours-of-service (HOS) regulations that prohibit drivers from operating property-carrying commercial motor vehicles (CMVs) after 14 hours on duty and require 10 hours off duty before resuming driving. The exemption allows WestRock's drivers to transport paper mill products short distances on a public road between its shipping and receiving locations without complying with those HOS limits.

DATES: This renewed exemption is effective from April 17, 2024, and expires on April 16, 2029.

FOR FURTHER INFORMATION CONTACT: Pearlie Robinson, Driver and Carrier Operations Division; Office of Carrier, Driver and Vehicle Safety Standards; FMCSA; 202-366-4225; pearlie.robinson@dot.gov. If you have questions on viewing or submitting material to the docket, contact Dockets Operations, (202) 366-9826.

SUPPLEMENTARY INFORMATION:

I. Public Participation

Viewing Comments and Documents

To view comments, go to www.regulations.gov, insert the docket number “FMCSA-2010-0027” in the keyword box, and click “Search.” Next, sort the results by “Posted (Newer-Older),” choose the first notice listed, and click “Browse Comments.”

To view documents mentioned in this notice as being available in the docket, go to www.regulations.gov, insert the docket number “FMCSA-2010-0027” in the keyword box, click “Search,” and choose the document to review.

If you do not have access to the internet, you may view the docket online by visiting Dockets Operations on the ground floor of the DOT West Building, 1200 New Jersey Avenue SE, Washington, DC 20590, between 9 a.m. and 5 p.m., ET, Monday through Friday, except Federal holidays. To be sure someone is there to help you, please call (202) 366-9317 or (202) 366-9826 before visiting Dockets Operations.

II. Legal Basis

FMCSA has authority under 49 U.S.C. 31136(e) and 31315(b) to grant exemptions from Federal Motor Carrier Safety Regulations (FMCSRs). FMCSA must publish a notice of each exemption request in the Federal Register (49 CFR 381.315(a)). The Agency must provide the public an opportunity to inspect the information relevant to the application, including the applicant's safety analysis. The Agency must provide an opportunity for public comment on the request.

The Agency reviews safety analyses and public comments submitted and determines whether granting the exemption would likely achieve a level of safety equivalent to, or greater than, the level that would be achieved by the current regulation (49 CFR 381.305(a)). The Agency must publish its decision in the Federal Register (49 CFR 381.315(b)). If granted, the notice will identify the regulatory provision from which the applicant will be exempt, the effective period, and all terms and conditions of the exemption (49 CFR 381.315(c)(1)). If the exemption is denied, the notice will explain the reason for the denial (49 CFR 381.315(c)(2)). The exemption may be renewed (49 CFR 381.300(b)).

III. Background

Current Regulatory Requirements

Under 49 CFR 395.3(a)(2), non-short haul drivers may not drive after having been on duty for a period of 14 consecutive hours until they have been off duty for a minimum of 10 consecutive hours, or the equivalent of at least 10 consecutive hours off duty. However, certain short-haul drivers are allowed a 16-hour driving window once a week (49 CFR 395.1(o)), and other short-haul drivers not requiring a commercial driver's license are allowed two 16-hour duty periods per week provided specified conditions are met (49 CFR 395.1(e)(2)).

IV. Application for Renewal of Exemption

The renewal application from WestRock was described in detail in a Federal Register notice of January 19, 2024 (89 FR 3704), and will not be repeated here as the facts have not changed since then.

V. Public Comments

On January 19, 2024, FMCSA published its decision to provisionally grant WestRock a five-year renewal through April 24, 2029 (89 FR 3704). Two comments were submitted to the docket, one supporting and the other opposing the exemption renewal. MWS Cartage LLC supports granting the renewal and said, “this should be a simple yes.” Trevor Bartz opposed the renewal and said, “WestRock is understaffed and its employees overworked.” Neither commenter provided information in support of their assertions.

VI. Agency Decision

Since 2012, FMCSA has determined that the operations of WestRock's drivers, pursuant to the terms and conditions of the exemption, would likely achieve a level of safety equivalent to, or greater than, the level of safety achieved without the exemption. The Agency has reviewed the comments to the docket and believes that WestRock's overall safety performance, as reflected in its “satisfactory” safety rating, and the short distance drivers will operate a CMV under the exemption, will likely enable it to achieve a level of safety that is equivalent to, or greater than, the level of safety achieved without the exemption (49 CFR 381.305(a)). FMCSA is unaware of any evidence of a degradation of safety attributable to the prior exemptions for WestRock's drivers. Further, WestRock asserted that, since the initial approval of its waiver, it has operated safely without incident. There is no indication of an adverse impact on safety while WestRock drivers have operated under the terms and conditions specified in the initial exemption or the renewals.

FMCSA therefore concludes that renewing the exemption granted on July 29, 2019, for another five years, under the terms and conditions listed below, will likely achieve a level of safety that is equivalent to, or greater than, the level of safety achieved without the exemption.

VII. Exemption Decision

A. Grant of Provisional Renewal of Exemption

FMCSA reaffirms its provisional decision to renew the WestRock exemption for a period of five years, subject to the terms and conditions of this decision. The exemption from the requirements of 49 CFR 395.3(a)(1) (the 10-hour off-duty rule) and (a)(2) (the “14-hour rule”) is effective beginning April 17, 2024, through April 16, 2029, 11:59 p.m. local time, unless revoked earlier.

B. Applicability of Exemption

During the exemption period, WestRock's shipping department employees and occasional substitute commercial driver's license (CDL) holders who transport paper mill products between the shipping and receiving locations along the designated route on Compress Street in Chattanooga, TN, may work up to 16 consecutive hours in a duty period and return to work with a minimum of at least 8 hours off duty when necessary.

C. Terms and Conditions

Applicability

The exemption is restricted to shipping department employees and occasional substitute CDL holders employed by WestRock who are exclusively assigned to a specific route. This specific route is entirely on Compress Street, between WestRock's shipping and receiving departments, measuring approximately 275 feet in one direction.

Notification to FMCSA

WestRock must notify FMCSA within 5 business days of any accident (as defined in 49 CFR 390.5), involving any of the motor carrier's CMVs operating under the terms of this exemption. The notification must include the following information:

(a) Name of the exemption: “WestRock”;

(b) Date of the accident;

(c) City or town, and State, in which the accident occurred, or which is closest to the accident scene;

(d) Driver's name and license number;

(e) Vehicle number and State license number;

(f) Number of individuals suffering physical injury;

(g) Number of fatalities;

(h) The police-reported cause of the accident;

(i) Whether the driver was cited for violation of any traffic laws, motor carrier safety regulations; and

(j) The driver's total driving time and total on-duty time prior to the accident. Reports filed under this provision shall be emailed to MCPSD@DOT.GOV.

D. Preemption

In accordance with 49 U.S.C. 31315(d), as implemented by 49 CFR 381.600, during the period this exemption is in effect, no State shall enforce any law or regulation that conflicts with or is inconsistent with this exemption with respect to a firm or person operating under the exemption.

E. Termination

FMCSA does not believe the drivers covered by this exemption will experience any deterioration of their safety record. The exemption will be rescinded if: (1) WestRock and drivers operating under the exemption fail to comply with the terms and conditions of the exemption; (2) the exemption has resulted in a lower level of safety than was maintained before it was granted; or (3) continuation of the exemption would not be consistent with the goals and objects of 49 U.S.C. 31136(e) and 31315(b).

Vincent G. White,
Deputy Administrator.

[FR Doc. 2024-24327 Filed 10-21-24; 8:45 am]

BILLING CODE 4910-EX-P